ENVIRONMENTAL PROTECTION AGENCY

[OPPT-2005-0008; FRL-7700-3]

Workshops on How to Report for the 2006 Inventory Update Rule (IUR) Information Collection; Notice of Public Meeting

AGENCY: Environmental Protection Agency (EPA).

ACTION: Notice.

SUMMARY: The EPA is convening four public workshops to provide training for affected parties responsible for reporting during the 2006 Inventory Update Rule (IUR) information collection. The workshops will focus on the instructions for reporting. These instructions were revised in response to amendments to 40 CFR part 710 promulgated on January 7, 2003 (68 FR 847) (FRL-6767-4). These workshops are open to the public.

DATES: All workshops will take place over 1 day. Each workshop will begin at approximately 8:30 a.m. and end at 4:30 p.m. The workshops will be held in early 2005: Dallas, TX (March 7); Kansas City, MO (April 4); Atlanta, GA (April 18); Philadelphia, PA (May 2).

ADDRESSES: Persons planning to attend the workshops are directed to the IUR website at http://www.epa.gov/oppt/iur/. This website contains specific workshop location information, as well as IUR background information, draft documents, and a link to the workshop registration site. All workshop materials can be downloaded from the IUR website or the EPA electronic docket at http://www.epa.gov/edocket/ in portable document format (PDF).

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Franklyn Hall, Economics, Exposure, and Technology Division (7406M), Office of Pollution Prevention and Toxics, Environmental Protection Agency, 1200 Pennsylvania Ave., NW., Washington, DC 20460-0001; telephone number: (202) 564-8522; e-mail address: hall.franklyn@epa.gov.

SUPPLEMENTARY INFORMATION:

I. General Information

A. Does this Action Apply to Me?

You may be potentially affected by this action if you manufacture chemical substances currently subject to reporting under the IUR as amended on January 7, 2003 (68 FR 847) and codified as 40 CFR part 710. Persons who process chemical substances but who do not manufacture or import chemical substances are not required to comply with the requirements of 40 CFR part 710. Potentially affected entities may include, but are not limited to:

• Chemical manufacturers and importers currently subject to IUR reporting (NAICS 325, 32411), e.g., manufacturers, importers, processors, and users of chemicals.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions at 40 CFR 710.48. If you have any questions regarding the applicability of this action to a particular entity, consult the technical person listed under FOR FURTHER INFORMATION CONTACT.

B. How Can I Get Copies of this Document and Other Related Information?

1. Docket. EPA has established an official public docket for this action under docket identification (ID) number OPPT-2005-0008. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access.You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

EPA is convening four workshops to train stakeholders on how to report for the 2006 Partial Updating of the TSCA Chemical Substance Inventory. EPA is required by section 8(b) of the Toxic Substances Control Act (TSCA) to compile and update an inventory of chemical substances manufactured or imported into the United States. Every four years, manufacturers (including importers) of certain chemical substances on the Chemical Substance Inventory have been required to report data specified in the TSCA section 8(a) IUR, 40 CFR part 710. Past updates included information on the chemical's production volume, site-limited status, and plant site information. Amendments to the IUR promulgated on January 7, 2003 (68 FR 847) expanded the data reported on certain chemicals to assist EPA and others in screening potential exposures and risks resulting from manufacturing, processing, and use of TSCA chemical substances. At the same time, EPA amended the IUR regulations to increase the production volume threshold which triggers reporting requirements from 10,000 pounds per year to 25,000 pounds per year and established a new higher threshold of 300,000 pounds per year above which manufacturers must report additional information on downstream processing and use of their chemical substances. The 2003 amendments to the IUR also revoked the exemption from reporting for inorganic chemical substances, provided a partial exemption from reporting of processing and use information for chemical substances of low current interest, and continued the current exemption from reporting for polymers, microorganisms, and naturally occurring chemical substances. These changes modify requirements for information collected in calendar year 2005 and submitted in 2006 and thereafter. These workshops may be of interest to persons currently reporting under the IUR and to manufacturers of inorganic chemical substances.

The workshops will include a series of presentations by representatives of EPA on the instructions for reporting the 2006 Partial Updating of the TSCA Chemical Substance Inventory. Subjects discussed will include reporting requirements, instructions for completing the reporting form, how to assert confidentiality claims, how to submit completed reports to EPA, and case studies illustrating different aspects of reporting. During the workshops, persons in attendance will be able to ask questions regarding the material being presented. The purpose of these meetings is to provide training to persons who must report in 2006 under the IUR.

III. How Can I Request to Participate in this Meeting?

You may register to participate in this meeting by directing your web browser to http://www.epa.gov/oppt/iur/. There is a workshop registration link on this website that will allow you to provide all necessary information for participation. There is no charge for attending this public meeting.

List of Subjects

Environmental protection, Chemicals, Reporting and recordkeeping requirements.

Dated: February 9, 2005.
Charles M. Auer,
Director, Office of Pollution Prevention and Toxics.

[FR Doc. 05-3531 Filed 2-24-05; 8:45 am]

BILLING CODE 6560-50-S